INTERNATIONAL TRADE COMMISSION

[Inv. No. 337-TA-648]

In the Matter of Certain Semiconductor Integrated Circuits Using Tungsten Metallization and Products Containing Same; Notice of Investigation

AGENCY: U.S. International Trade Commission.

ACTION: Institution of investigation pursuant to 19 U.S.C. 1337.

SUMMARY: Notice is hereby given that a complaint was filed with the U.S. International Trade Commission on April 18, 2008, under section 337 of the Tariff Act of 1930, as amended, 19 U.S.C. 1337, on behalf of LSI Corporation of Milpitas, California and Agere Systems Inc. of Allentown, Pennsylvania. The complaint alleges violations of section 337 based upon the importation into the United States, the sale for importation, and the sale within the United States after importation of certain semiconductor integrated circuits using tungsten metallization and products containing same that infringe claim 1 of U.S. Patent No. 5,227,335. The complaint further alleges that an industry in the United States exists as required by subsection (a)(2) of section 337.

The complainants request that the Commission institute an investigation and, after the investigation, issue an exclusion order and cease and desist orders.

ADDRESSES: The complaint, except for any confidential information contained therein, is available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its Internet server at http://www.usitc.gov. The public record for this investigation may be viewed on the Commission's electronic docket (EDIS) at http://edis.usitc.gov.

FOR FURTHER INFORMATION CONTACT: Thomas S. Fusco, Esq., Office of Unfair Import Investigations, U.S. International Trade Commission, telephone (202) 205-2571.

Authority: The authority for institution of this investigation is contained in section 337 of the Tariff Act of 1930, as amended, and in section 210.10 of the Commission's Rules of Practice and Procedure, 19 CFR 210.10 (2008).

Scope of Investigation: Having considered the complaint, the U.S. International Trade Commission, on May 14, 2008, ordered that—

(1) Pursuant to subsection (b) of section 337 of the Tariff Act of 1930, as amended, an investigation be instituted to determine whether there is a violation of subsection (a)(1)(B) of section 337 in the importation into the United States, the sale for importation, or the sale within the United States after importation of certain semiconductor integrated circuits using tungsten metallization or products containing same that infringe claim 1 of U.S. Patent No. 5,227,335, and whether an industry in the United States exists as required by subsection (a)(2) of section 337;

(2) For the purpose of the investigation so instituted, the following are hereby named as parties upon which this notice of investigation shall be served:

(a) The complainants are—

LSI Corporation,1621 Barber Lane, Milpitas, California 95035

Agere Systems, Inc., 1110 American Parkway, NE, Allentown, Pennsylvania 18109

(b) The respondents are the following entities alleged to be in violation of section 337, and are the parties upon which the complaint is to be served: United Microelectronics Corporation, No 3 Li-Hsin 2nd Road, Hsinchu Science Park, Hsinchu-Chu City, Taiwan.

Integrated Device Technology, Inc., 6024 Silver Creek Valley Road, San Jose, California 95138

AMIC Technology Corporation, No. 2 Li-Hsin 6th Road, Science-Based Industrial Park, Hsinchu, Taiwan

Cypress Semiconductor Corporation. 198 Champion Court, San Jose, California 95134

Elpida Memory, Inc., Sumitomo Seimei Yaesu Building, 3rd Floor 2-1 Yaesu 2-chome Chuo-ku, Tokyo 104-0028, Japan

Freescale Semiconductor, Inc., 6501 William Cannon Drive West, Austin, Texas 78735.

Grace Semiconductor Manufacturing Corporation, 1399 Zu Chong Zhi Road, Zhangjiang Hi-Tech Park, Shanghai 201203, China

Microchip Technology, Inc., 2355 West Chandler Boulevard, Chandler, Arizona 85224

Micronas Semiconductor Holding, AG, Technopark Technoparkstrasse 1, Zurich, 8005, Switzerland

National Semiconductor Corporation, 2900 Semiconductor Drive, Santa Clara, California 95052-8090

Nanya Technology Corporation, HWA Ya Technology Park, 669 Fu Hsing 3rd Road, Kueishan, Taoyuan County, Taiwan

NXP B.V., High Tech Campus 60, Eindhoven, 5656, Netherlands

ON Semiconductor Corporation, 5005 East McDowell Road, Phoenix, Arizona 85008

Powerchip Semiconductor Corporation, No 12 Li-Hsin Road, 1 Hsinchu Science-Based Industrial Park, Hsinchu, Taiwan

ProMOS Technologies, Inc.,19 Li-Hsin Road Hsinchu Science-Based, Industrial Park, Hsinchu, Taiwan

Spansion, Inc., 915 DeGuigne Drive, P.O. Box 3453, Sunnyvale, California 94088-3453

STMicroelectronics NV, 39 Chemin du Champ des Filles Plan-Les-Quates C P 21, Geneva, 1228, Switzerland

Vanguard International Semiconductor Corporation, Headquarter, Fab 1, 123 Park Avenue-3rd, Hsinchu Science Park, Hsinchu, Taiwan 30077

(c) The Commission investigative attorney, party to this investigation, is Thomas S. Fusco, Esq., Office of Unfair Import Investigations, U.S. International Trade Commission, 500 E Street, SW., Suite 401, Washington, DC 20436; and

(3) For the investigation so instituted, the Honorable Carl C. Charneski is designated as the presiding administrative law judge.

The Commission notes that the patent at issue was the subject of earlier litigation which raises the issue of whether the complainants are precluded from asserting that patent. In instituting this investigation, the Commission has not made any determination as to whether the complainants are so precluded. Accordingly, the presiding administrative law judge may wish to consider this issue at an early date. Any such decision should be issued in the form of an initial determination (ID). The ID will become the Commission's final determination 45 days after the date of service of the ID unless the Commission determines to review the ID. Any petitions for review of the ID must be filed within ten (10) days after service thereof. Any review will be conducted in accordance with Commission Rules 210.43, 210.44 and 210.45, 19 CFR 210.43, 210.44, and 210.45.

Responses to the complaint and the notice of investigation must be submitted by the named respondents in accordance with section 210.13 of the Commission's Rules of Practice and Procedure, 19 CFR 210.13. Pursuant to 19 CFR 201.16(d) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: May 15, 2008.
Marilyn R. Abbott,
Secretary to the Commission.

[FR Doc. E8-11308 Filed 5-20-08; 8:45 am]

BILLING CODE 7020-02-P